DEPARTMENT OF TRANSPORTATION

Federal Aviation Administration

Agency Information Collection Activities: Requests for Comments; Clearance of Renewed Approval of Information Collection: Organization Designation Authorization-Part 183, Subpart D

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on June 7, 2018. This collection involves organizations applying to perform certification functions on behalf of the FAA, including approving data and issuing various aircraft and organization certificates.

DATES: Written comments should be submitted by September 13, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION:

OMB Control Number: 2120-0704.

Title: Organization Designation Authorization-Part 183, Subpart D.

Form Numbers: FAA Form 8100-13.

Type of Review: Extension without change of an information collection.

Background: The Federal Register Notice with a 60-day comment period soliciting comments on the following collection of information was published on June 7, 2018 (83 FR 26538). 49 U.S.C. Section 44702(d) empowers the Administrator of the Federal Aviation Administration to delegate to any properly qualified private person functions related to the examination, inspection, and testing necessary to the issuance of certificates. Subpart D to part 183 allows the FAA to appoint organizations as representatives of the administrator. As authorized, these organizations perform certification functions on behalf of the FAA. Applications are submitted to the appropriate FAA office and are reviewed by the FAA to determine whether the applicant meets the requirements necessary to be authorized as a representative of the Administrator. Procedures manuals are submitted and approved by the FAA as a means to ensure that the correct processes are utilized when performing functions on behalf of the FAA. These requirements are necessary to manage the various approvals issued by the organization and to document approvals issued and must be maintained in order to address potential future safety issues.

Respondents: The application form is submitted to the appropriate Federal Aviation Administration (FAA) office by an interested organization.

Frequency: Information is collected on occasion.

Estimated Average Burden per Response: 43.5 hours.

Estimated Total Annual Burden: 5,623 hours.

Issued in Washington, DC on August 7, 2018.
Robin Darden,
Management Support Specialist, Performance, Policy, and Records Management Branch, ASP-110.

[FR Doc. 2018-17461 Filed 8-13-18; 8:45 am]

BILLING CODE 4910-13-P